DEPARTMENT OF JUSTICE

Notice of Lodging of Settlement Agreement Under the Comprehensive Environmental Response, Compensation and Liability Act, the Clean Air Act, and Chapter 11 of the United States Bankruptcy Code

Notice is hereby given that on July 1, 2010, a proposed Settlement Agreement (“Agreement”) in In re Quebecor World (USA) Inc., et al., Case No. 08-10152(JMP) (Bankr. S.D.N.Y.), was lodged with the United States Bankruptcy Court for the Southern District of New York. The Agreement was entered into by the United States, on behalf of the United States Environmental Protection Agency (“EPA”), Quebecor World (USA) Inc. (known as World Color (USA) Corp. since confirmation of the Plan of Reorganization and acquired by Quad/Graphics Inc. on or about July 2, 2010), and certain of its direct and indirect subsidiaries (the “Debtors”), the State of Illinois, the Lenz PRP RD/RA Work Group, a group of potentially responsible parties (“PRPs”) at the Lenz Oil Services Site in Lamont, Illinois, the Keystone Site Original Generator Defendants, a group of PRPs at the Keystone Landfill Site in Union Township, Pennsylvania, and Ringier, A.G., an indemnitor of certain of the Debtors. The Agreement relates to liabilities of the Debtors under the Comprehensive Environmental Response, Compensation and Liability Act of 1980, 42 U.S.C. 9601 et seq. (“CERCLA”) and under the Clean Air Act, 42 U.S.C. 7401 et seq.

The Agreement provides that EPA will have allowed general unsecured claims in the following amounts with respect to the following four Liquidated Sites: (1) $195,500 in connection with the Peterson/Puritan, Inc. Superfund Site in Lincoln and Cumberland, Rhode Island, (2) $175,412.76 in connection with the Solvent Recovery Service of New England Superfund Site in Southington, Connecticut, (3) $1,000 in connection with the LWD, Inc. Superfund Site in Calvert City, Kentucky, and (4) $2,701.12 in connection with the Lake Calumet Cluster Superfund Site located in Chicago, Illinois. In addition, Ringier, A.G. has agreed to make a cash payment to EPA, in the amount of $38,617.58, in connection with the Lake Calumet Cluster Superfund Site. Under the Agreement, EPA has agreed not to bring an action, under Sections 106 and 107 of CERCLA, 42 U.S.C. 9606 and 9607, and 7003 of RCRA, 42 U.S.C. 6973, against the Debtors with respect to the Liquidated Sites, or against Ringier, A.G., in its capacity as the indemnitor of one or more of the Debtors, with respect to the Lake Calumet Cluster Site or the Lenz Oil Services Site, with respect to conduct of the Debtors occurring after the date of lodging of the Agreement.

The Agreement also has provisions related to the liability of the Debtors in connection with two Consent Decree Sites—the Keystone Landfill Site and the Lenz Oil Services Site—where certain of the Debtors, as well as other PRPs, have entered into consent decrees with EPA requiring the implementation of remedial actions at such sites.

Under the agreement, EPA has also agreed that the liability of the Debtors under Sections 106 and 107 of CERCLA, 42 U.S.C. 9606 and 9607, arising from prepetition acts at the three Discharged Sites—the Byron Salvage Yard Site in Ogle County, Illinois, the Operating Industries Site in Monterey Park, California, and the Calumet Containers Site in Hammond, Indiana—were discharged under Section 1141 of the Bankruptcy Code by the Plan of Reorganization and the Confirmation Order.

The Agreement also provides that the liability of the Debtors at the following Excluded Sites will not be affected by the Settlement Agreement: (1) The Bulk Terminals Site in Louisville, Kentucky; (2) the Constitution Road Site in Atlanta, Georgia; (3) the M&J Solvents Site in Atlanta, Georgia; (4) the Seaboard Chemical Corp. Site in Jamestown, North Carolina; (5) the Frontier Chemical Waste Processing Site in Niagara Falls, New York; (6) the Somersville Road Site in Contra Costa County, California; (7) the Crymes Landfill Site in Tucker, Georgia; (8) the Interstate Pollution Control Site in Rockford, Illinois; (9) the Old Land Reclamation Landfill Site in Depew, New York; (10) the GBF Pittsburgh Landfill Site in Contra Costa, California; (11) the Chemical Control Corp. Site in Elizabeth, New Jersey; and (12) the Brampton Road Site in Garden City, Georgia.

With respect to any Debtor-Owned Sites, the Agreement provides that the claims of EPA and the State of Illinois against the Debtors related to postpetition cleanup costs, as well as actions seeking to compel performance of any cleanup action at such sites, shall not be discharged under Section 1141 of the Bankruptcy Code or impaired or affected by the Plan of Reorganization or the Confirmation Order.

Finally, the Agreement provides, with respect to Additional Sites—defined as all sites that are not Liquidated Sites, Debtor-Owned Sites, Consent Decree Sites, Discharged Sites, or Excluded Sites—that all liabilities of the Debtors to EPA under Sections 106 and 107 of CERCLA, 42 U.S.C. 9606 and 9607, and Section 7003 of RCRA, 42 U.S.C. 6973, arising from prepetition acts, shall be addressed as follows: EPA may not issue unilateral orders or seek injunctions against the Debtors, under Section 106 of CERCLA, 42 U.S.C. 9606 or Section 7003 of RCRA, 42 U.S.C. 6973, with respect to such sites, but EPA may seek to resolve Debtors' liability, or have such liability adjudicated, to a Determined Amount. The Agreement provides that the Debtors will pay EPA a Distribution Amount, which is based on the amount the Debtors would have paid to EPA if, at the time of the bankruptcy proceeding, EPA had an allowed general unsecured claim equal to the Determined Amount.

The Agreement also provides that EPA will have a general unsecured claim in the amount of $183,109 in connection with EPA's claim that one of the Debtors—Quebecor World Retail Printing Corp. (known as World Color Retail Printing Corp. since confirmation of the Plan of Reorganization and acquired by Quad/Graphics Inc. on or about July 2, 2010)—is liable for civil penalties for violations of the Clean Air Act at its facility located in Taunton, Massachusetts.

For a period of 30 days from the date of this publication, the Department of Justice will receive comments relating to the Agreement. Comments should be addressed to the Assistant Attorney General, Environment and Natural Resources Division, and either e-mailed to pubcomment-ees.enrd@usdoj.gov or mailed to P.O. Box 7611, U.S. Department of Justice, Washington, DC 20044, and should refer to In re Quebecor World (USA) Inc., et al., Case No. 08-10152(JMP) (Bankr. S.D.N.Y.) and D.J. Ref. No. 90-11-2-09461. A copy of the comments should be sent to Donald G. Frankel, Department of Justice, Environmental Enforcement Section, One Gateway Center, Suite 616, Newton, MA 02458 or e-mailed to him at donald.frankel@usdoj.gov.

The Agreement may be examined at the Office of the United States Attorney, Southern District of New York, 86 Chambers Street, Third Floor, New York, NY 10007 (contact Jeannette A. Vargas at 212-637-2678). During the public comment period, the Agreement may also be examined on the following Department of Justice Web site, http://www.usdoj.gov/enrd/Consent_Decrees.html. A copy of the Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Agreement from the Consent Decree Library, please enclose a check in the amount of $12.00 (25 cents per page reproduction cost) payable to the U.S. Treasury (if the request is by fax or e-mail, forward a check to the Consent Decree library at the address stated above). Commenters may request an opportunity for a public meeting, in accordance with Section 7003(d) of RCRA, 42 U.S.C. 6973(d).

Maureen Katz,
Assistant Section Chief, Environmental Enforcement Section, Environment and Natural Resources Division.

[FR Doc. 2010-16678 Filed 7-7-10; 8:45 am]

BILLING CODE 4410-15-P